DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce that the following Federal Advisory Committee meeting of the Defense Business Board (“the Board”) will take place.

DATES: Closed to the public Wednesday, November 9, 2022 from 9:00 a.m. to 11:00 a.m., 3:00 p.m. to 4:10 p.m., and from 6:00 p.m. to 7:30 p.m. Open to the public Thursday, November 10, 2022 from 8:30 a.m. to 12:35 p.m. All Eastern time.

ADDRESSES: The open and closed portions of the meeting will be in the Pentagon Library Conference Center Room M1 and 4D880 in the Pentagon, Washington DC. The open public portions of the meeting will be conducted by teleconference only. To participate in the open public portion of the meeting, see the Meeting Accessibility section for instructions.

FOR FURTHER INFORMATION CONTACT: Ms. Jennifer Hill, Designated Federal Officer (DFO) of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of the Federal Advisory Committee Act (FACA) (5 U.S.C., app.), the Government in the Sunshine Act (5 U.S.C. 552b), and 41 CFR 102-3.140 and 102-3.150.

Purpose of the Meeting: The mission of the Board is to examine and advise the Secretary of Defense on overall DoD management and governance. The Board provides independent, strategic-level, private sector and academic advice and counsel on enterprise-wide business management approaches and best practices for business operations and achieving National Defense goals.

Agenda: The Board will begin in closed session on November 9, 2022 from 9:00 a.m. to 11:00 a.m. with opening remarks by Ms. Jennifer Hill, the DFO and the Board's Chair, Hon. Deborah James. The Board will receive a classified brief on the resiliency of the Defense Industrial Base from Hon. Kathleen Hicks, Deputy Secretary of Defense, followed by a classified update on DoD events by Secretary of Defense, Hon. Lloyd J. Austin III. The DFO will then adjourn the closed session. The Board will reconvene in closed session on November 9, 2022 at 3:00 p.m. Ms. Jennifer Hill, the DFO will open the closed session. Next, the Board will receive a classified briefing on streamlining DoD intelligence processes by Hon. Ronald S. Moultrie, Under Secretary of Defense for Intelligence & Security. Hon. Deborah James, the Board's Chair will provide remarks and the DFO will adjourn the closed session. The Board will also meet in closed session November 9, 2022 from 6:00 p.m. to 7:30 p.m. The DFO will open the closed session followed by the Chair's welcome. The Board will receive a classified brief by Hon. Heidi Shyu, Under Secretary of Defense for Research and Engineering on how the Department is preparing for future conflicts. The DFO will adjourn the closed session. The Board will begin in open session on November 10, 2022 at 8:30 a.m. with opening remarks by the DFO and Chair's welcome to members and guests by Hon. Deborah James. Next, will be a presentation, deliberation, and vote on the Defense Business Board “Recommendations to Improve Department of Defense Business Health Metrics” study led by Ms. Erin Hill, Chair, Business Transformation Advisory Subcommittee. The Board will then receive a follow up brief on the dissolution of the Office of the Chief Management Officer and current business improvement efforts by Hon. Michael B. Donley, Director, Administration and Management. Hon. Gilbert Cisneros, Under Secretary of Defense for Personnel and Readiness, will provide an update on DoD Civilian Training. Closing remarks by the Chair, Hon. Deborah James and the DFO will adjourn the open session. The latest version of the agenda will be available on the Board's website at: https://dbb.defense.gov/Meetings/Meeting-November-2022/.

Meeting Accessibility: In accordance with Section 10(d) of the FACA and 41 CFR 102-3.155, it is hereby determined that portions of the November 9-10, 2022 meeting of the Board will include classified information and other matters covered by 5 U.S.C. 552b(c)(1) and that, accordingly, the meeting will be closed to the public on November 9, 2022 from 9:00 a.m. to 11:00 a.m., from 3:00 p.m. to 4:10 p.m., and from 6:00 p.m. to 7:30 p.m. This determination is based on the consideration that it is expected that discussions throughout these periods will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and to the Deputy Secretary of Defense. Pursuant to section 10(a)(1) of the FACA and 41 CFR 102-3.140, the portion of the meeting on November 10, 2022 from 8:30 a.m. to 12:35 p.m. is open to the public. Persons desiring to attend the public session are required to register. To attend the public session submit your name, affiliation/organization, telephone number, and email contact information to the Board at osd.pentagon.odam.mbx.defense-business-board@mail.mil. Requests to attend the public session must be received no later than 4:00 p.m. on Monday, November 7, 2022. Upon receipt of this information, the Board will provide further instructions for telephonically attending the meeting.

Written Comments and Statements: Pursuant to 41 CFR 102-3.105(j) and 102-3.140 and section 10(a)(3) of the FACA, the public or interested organizations may submit written comments or statements to the Board in response to the stated agenda of the meeting or regarding the Board's mission in general. Written comments or statements should be submitted to Ms. Jennifer Hill, the DFO, via electronic mail (the preferred mode of submission) at the address listed in the FOR FURTHER INFORMATION CONTACT section. Each page of the comment or statement must include the author's name, title or affiliation, address, and daytime phone number. The DFO must receive written comments or statements submitted in response to the agenda set forth in this notice by Wednesday, November 2, 2022 to be considered by the Board. The DFO will review all timely submitted written comments or statements with the Board Chair, and ensure the comments are provided to all members of the Board before the meeting. Written comments or statements received after this date may not be provided to the Board until its next scheduled meeting. Please note that all submitted comments and statements will be treated as public documents and will be made available for public inspection, including, but not limited to, being posted on the Board's website.

Dated: October 6, 2022.
Aaron T. Siegel,
Alternate OSD Federal Register Liaison Officer, Department of Defense.

[FR Doc. 2022-22163 Filed 10-12-22; 8:45 am]

BILLING CODE 5001-06-P